DEPARTMENT OF COMMERCE

National Oceanic and Atmospheric Administration

50 CFR Parts 223 and 224

[Docket No. 130501429-4999-03]

RIN 0648-XC659

Endangered and Threatened Wildlife and Plants; Final Rule To Revise the Code of Federal Regulations for Species Under the Jurisdiction of the National Marine Fisheries Service; Correction

AGENCY: National Marine Fisheries Service (NMFS), National Oceanic and Atmospheric Administration (NOAA), Commerce.

ACTION: Final rule; correcting amendments.

SUMMARY: This document contains technical corrections for errors in a rule related to Endangered Species Act (ESA) protections for distinct population segments (DPSs) of the loggerhead sea turtle (Caretta caretta). The “Final Rule to Revise the Code of Federal Regulations (CFR) for Species Under the Jurisdiction of the National Marine Fisheries Service” revised the CFR tables that list threatened and endangered species under the ESA. During that process, we incorrectly revised the descriptions of listed entities for the DPSs of the loggerhead sea turtle in a manner that differs from the original listing descriptions. In this document, we correct the descriptions of the DPSs in the CFR tables. We also add cross-references to recently designated critical habitat of the Northwest Atlantic Ocean DPS of the loggerhead sea turtle.

DATES: Effective on December 31, 2014.

FOR FURTHER INFORMATION CONTACT: Jennifer Schultz at (301) 427-8443, or Angela Somma at (301) 427-8474.

SUPPLEMENTARY INFORMATION:

Background

On April 14, 2014, we, NMFS, issued the “Final Rule to Revise the Code of Federal Regulations for Species Under the Jurisdiction of the National Marine Fisheries Service” (79 FR 20802) to clarify and update the descriptions and associated protections for species that are listed as threatened or endangered under the ESA. These revisions changed the format and content of the tables, which list and describe threatened and endangered species under NMFS' jurisdiction at 50 CFR 223.102(e) and 50 CFR 224.101(h), respectively. For example, the table columns previously labeled, “where listed” are now labeled “description of listed entity,” and the columns labeled, “critical habitat” now cite the specific section in 50 CFR part 226, where the critical habitat description is found.

During this process, we incorrectly revised the descriptions of the listed entities for the DPSs of the loggerhead sea turtle. For example, we changed the description of listed entity from “Northwest Atlantic Ocean north of the equator, south of 60° N. Lat., and west of 40° W. Long.,” to “loggerhead sea turtles originating from the Northwest Atlantic Ocean west of 40° W. Long.” Therefore, this document amends the tables by correcting the descriptions of listed entities for the DPSs of the loggerhead sea turtle to reflect the original listing description published in the CFR. There was one mistake in the original listing (76 FR 58868, September 22, 2011). The Southwest Indian Ocean DPS includes loggerhead sea turtles originating from the Southwest Indian Ocean north of the equator, south of 30° N. Lat., east of 20° E. Long., and west of 80° E. Long; the original listing incorrectly indicated, “west of 20° E. Long., and east of 80° E. Long.”

On July 10, 2014, NMFS and USFWS issued separate final rules to designate critical habitat for marine and terrestrial habitat, respectively, for the Northwest Atlantic Ocean DPS of the loggerhead sea turtle (79 FR 39855 and 79 FR 39755, respectively). At that time, we did not update the column labeled “critical habitat,” in the table in 50 CFR 223.102(e) to cross reference these new rules. Therefore, this document also corrects the table by citing the critical habitat designations in 50 CFR 226.223 and 50 CFR 17.95(c) in the column of the table in 50 CFR 223.102(e).

Classification

This correction does not alter or revise in any way the threatened or endangered species statuses or critical habitat designations for the DPSs of the loggerhead sea turtle. Therefore, the Assistant Administrator for Fisheries, NOAA, finds good cause to waive requirement to provide prior public notice and comment.

Need for Correction

As published, the final regulations contain errors which may prove to be misleading and need to be clarified.

List of Subjects

50 CFR Part 223

Threatened marine and anadromous species.

50 CFR Part 224

Endangered marine and anadromous species.

Dated: December 22, 2014.
Samuel D. Rauch III,
Deputy Assistant Administrator for Regulatory Programs, National Marine Fisheries Service.

Accordingly, 50 CFR parts 223 and 224 are corrected by making the following correcting amendments:

PART 223—THREATENED MARINE AND ANADROMOUS SPECIES

1. The authority citation for part 223 continues to read as follows:

Authority: 16 U.S.C. 1531-1543; subpart B, § 223.201-202 also issued under 16 U.S.C. 1361 et seq.; 16 U.S.C. 5503(d) for § 223.206(d)(9).

2. In § 223.102(e), revise the table entries for “Sea turtle, loggerhead (Northwest Atlantic Ocean DPS)”, “Sea turtle, loggerhead (South Atlantic Ocean DPS)”, “Sea turtle, loggerhead (Southeast Indo-Pacific Ocean DPS)”, and “Sea turtle, loggerhead (Southwest Indian Ocean DPS)” to read as follows:

§ 223.102 Enumeration of threatened marine and anadromous species.

* * * * *

(e) * * *

Species ¹: Common name | Species ¹: Scientific name | Species ¹: Description of listed entity | Citation(s) for listing determination(s) | Critical habitat | ESA rules
* * * * * * *
Sea Turtles ²
Sea turtle, loggerhead (Northwest Atlantic Ocean DPS) | Caretta caretta | Loggerhead sea turtles originating from the Northwest Atlantic Ocean north of the equator, south of 60° N. Lat., and west of 40° W. Long | 76 FR 58868, Sep 22, 2011 | 17.95(c), 226.223 | 223.205, 223.206, 223.207.
Sea turtle, loggerhead (South Atlantic Ocean DPS) | Caretta caretta | Loggerhead sea turtles originating from the South Atlantic Ocean south of the equator, north of 60° S. Lat., west of 20° E. Long., and east of 67° W. Long | 76 FR 58868, Sep 22, 2011 | NA | 223.205, 223.206, 223.207.
Sea turtle, loggerhead (Southeast Indo-Pacific Ocean DPS) | Caretta caretta | Loggerhead sea turtles originating from the Southeast Indian Ocean south of the equator, north of 60° S. Lat., and east of 80° E. Long.; South Pacific Ocean south of the equator, north of 60° S. Lat., and west of 141° E. Long | 76 FR 58868, Sep 22, 2011 | NA | 223.205, 223.206, 223.207
Sea turtle, loggerhead (Southwest Indian Ocean DPS) | Caretta caretta | Loggerhead sea turtles originating from the Southwest Indian Ocean north of the equator, south of 30° N. Lat., east of 20° E. Long., and west of 80° E. Long | 76 FR 58868, Sep 22, 2011 | NA | 223.205, 223.206, 223.207
* * * * * * *
¹ Species includes taxonomic species, subspecies, distinct population segments (DPSs) (for a policy statement, see 61 FR 4722, February 7, 1996), and evolutionarily significant units (ESUs) (for a policy statement, see 56 FR 58612, November 20, 1991).
² Jurisdiction for sea turtles by the Department of Commerce, National Oceanic and Atmospheric Administration, National Marine Fisheries Service, is limited to turtles while in the water.

* * * * *

PART 224—ENDANGERED MARINE AND ANADROMOUS SPECIES

3. The authority citation for part 224 continues to read as follows:

Authority: 16 U.S.C. 1531-1543 and 16 U.S.C. 1361 et seq.

4. In § 224.101(h), revise the table entries for “Sea turtle, loggerhead (Mediterranean Sea DPS)”, “Sea turtle, loggerhead (North Indian Ocean DPS)”, “Sea turtle, loggerhead (North Pacific Ocean DPS)”, “Sea turtle, loggerhead (Northeast Atlantic Ocean DPS)”, and “Sea turtle, loggerhead (South Pacific Ocean DPS)” to read as follows:

§ 224.101 Enumeration of endangered marine and anadromous species.

* * * * *

(h) * * *

Species ¹: Common name | Species ¹: Scientific name | Species ¹: Description of listed entity | Citation(s) for listing determination(s) | Critical habitat | ESA rules
* * * * * * *
Sea Turtles ²
Sea turtle, loggerhead (Mediterranean Sea DPS) | Caretta caretta | Loggerhead sea turtles originating from the Mediterranean Sea east of 5°36′ W. Long | 76 FR 58868, Sep 22, 2011 | NA | 224.104
Sea turtle, loggerhead (North Indian Ocean DPS) | Caretta caretta | Loggerhead sea turtles originating from the North Indian Ocean north of the equator and south of 30° N. Lat | 76 FR 58868, Sep 22, 2011 | NA | 224.104
Sea turtle, loggerhead (North Pacific Ocean DPS) | Caretta caretta | Loggerhead sea turtles originating from the North Pacific north of the equator and south of 60° N. Lat | 76 FR 58868, Sep 22, 2011 | NA | 224.104
Sea turtle, loggerhead (Northeast Atlantic Ocean DPS) | Caretta caretta | Loggerhead sea turtles originating from the Northeast Atlantic Ocean north of the equator, south of 60° N. Lat., and east of 40° W. Long., except in the vicinity of the Strait of Gibraltar where the eastern boundary is 5°36′ W. Long | 76 FR 58868, Sep 22, 2011 | NA | 224.104
Sea turtle, loggerhead (South Pacific Ocean DPS) | Caretta caretta | Loggerhead sea turtles originating from the South Pacific south of the equator, north of 60° S. Lat., west of 67° W. Long., and east of 141° E. Long | 76 FR 58868, Sep 22, 2011 | NA | 224.104
* * * * * * *
¹ Species includes taxonomic species, subspecies, distinct population segments (DPSs) (for a policy statement, see 61 FR 4722, February 7, 1996), and evolutionarily significant units (ESUs) (for a policy statement, see 56 FR 58612, November 20, 1991).
² Jurisdiction for sea turtles by the Department of Commerce, National Oceanic and Atmospheric Administration, National Marine Fisheries Service, is limited to turtles while in the water.

* * * * *

[FR Doc. 2014-30677 Filed 12-30-14; 8:45 am]

BILLING CODE 3510-22-P